DEPARTMENT OF ENERGY

Federal Energy Regulatory Commission

[Project No. 2333-094]

Rumford Falls Hydro LLC; Notice of Intent To Prepare an Environmental Assessment

On September 29, 2022, Rumford Falls Hydro LLC (RFH) filed an application for a new major license for the 44.5-megawatt Rumford Falls Hydroelectric Project (Rumford Falls Project; FERC No. 2333). The application was supplemented on March 30 and June 9, 2023. The Rumford Falls Project is located on the Androscoggin River in the Town of Rumford, Oxford County, Maine. No Federal or Tribal lands occur within or adjacent to the project boundary.

In accordance with the Commission's regulations, on June 26, 2023, Commission staff issued a notice that the project was ready for environmental analysis (REA Notice). Based on the information in the record, including comments filed on the REA Notice, staff does not anticipate that licensing the project would constitute a major Federal action significantly affecting the quality of the human environment. Therefore, staff intends to prepare a draft and final Environmental Assessment (EA) on the application to relicense the Rumford Falls Project.

The EA will be issued and circulated for review by all interested parties. All comments filed on the EA will be analyzed by staff and considered in the Commission's final licensing decision.

The application will be processed according to the following schedule. Revisions to the schedule may be made as appropriate.

Milestone | Target date
Commission issues draft EA | January 2024.
Comments on draft EA | March 2024.
Commission issues final EA | August 2024.1
1 The Council on Environmental Quality's (CEQ) regulations under 40 CFR 1501.10(b)(1) require that EAs be completed within 1 year of the Federal action agency's decision to prepare an EA. This notice establishes the Commission's intent to prepare a draft and final EA for the Rumford Falls Project. Therefore, in accordance with CEQ's regulations, the final EA must be issued within 1 year of the issuance date of this notice.

Any questions regarding this notice may be directed to Ryan Hansen at (202) 502-8074 or ryan.hansen@ferc.gov.

Dated: September 12, 2023.
Kimberly D. Bose,
Secretary.

[FR Doc. 2023-20113 Filed 9-15-23; 8:45 am]

BILLING CODE 6717-01-P